DEPARTMENT OF COMMERCE

Foreign-Trade Zones Board

[S-169-2016]

Approval of Subzone Status; Brake Parts Inc.; Hazleton, Pennsylvania

On December 1, 2016, the Executive Secretary of the Foreign-Trade Zones (FTZ) Board docketed an application submitted by the Eastern Distribution Center, Inc., grantee of FTZ 24, requesting subzone status subject to the existing activation limit of FTZ 24, on behalf of Brake Parts Inc., in Hazleton, Pennsylvania.

The application was processed in accordance with the FTZ Act and Regulations, including notice in the Federal Register inviting public comment (81 FR 88213, December 7, 2016). The FTZ staff examiner reviewed the application and determined that it meets the criteria for approval. Pursuant to the authority delegated to the FTZ Board Executive Secretary (15 CFR Sec. 400.36(f)), the application to establish Subzone 24E is approved, subject to the FTZ Act and the Board's regulations, including Section 400.13, and further subject to FTZ 24's 2,000-acre activation limit.

Dated: March 2, 2016.
Andrew McGilvray,
Executive Secretary.

[FR Doc. 2017-04442 Filed 3-6-17; 8:45 am]

BILLING CODE 3510-DS-P